DEPARTMENT OF DEFENSE

Office of the Secretary

[Docket ID: DOD-2016-HA-0042]

Privacy Act of 1974; System of Records

AGENCY: Defense Health Agency, DoD.

ACTION: Notice to alter a System of Records.

SUMMARY: Consistent with the Defense Health Agency's creation on October 1, 2013, the existing system of records, DHA 20 DoD, entitled “Department of Defense Suicide Event Report (DoDSER) System,” is being realigned to the Defense Health Agency's compilation of Privacy Act System of Records Notices (SORNs). The realignment of this system requires a change in its system identifier to reflect the numbering system used by the Defense Health Agency.

The Defense Health Agency also proposes to alter this system of records. This system establishes, collects, and maintains integrated DoD enterprise and survey data to be used for direct reporting of Reportable Events involving individuals on active duty or serving in the Reserves, supporting ongoing population-based health surveillance activities and public health within DoD, and for analysis. Surveillance activities include the systematic collection, analysis, interpretation, and reporting of outcome-specific data for use in planning and development of best practices, education, public health within DoD, and training on protocols for identifying, responding to, and managing individuals at increased risk of suicide; and implementation, evaluation, and prevention of suicide behaviors and Reportable Events within the DoD.

DATES: Comments will be accepted on or before May 16, 2016. This proposed action will be effective the date following the end of the comment period unless comments are received which result in a contrary determination.

ADDRESSES: You may submit comments, identified by docket number and title, by any of the following methods:

* Federal Rulemaking Portal: http://www.regulations.gov. Follow the instructions for submitting comments.

* Mail: ODCMO, Directorate for Oversight and Compliance, 4800 Mark Center Drive, Attn: Mailbox 24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Linda S. Thomas, Chief, Defense Health Agency Privacy and Civil Liberties Office, 7700 Arlington Boulevard, Suite 5101, Falls Church, VA 22042-5101, or by phone at (703) 275-6363.

SUPPLEMENTARY INFORMATION: The Defense Health Agency notices for systems of records subject to the Privacy Act of 1974 (5 U.S.C. 552a), as amended, have been published in the Federal Register and are available from the address in FOR FURTHER INFORMATION CONTACT or at the Defense Privacy and Civil Liberties Division Web site at http://dpcld.defense.gov/. The proposed system report, as required by 5 U.S.C. 552a(r) of the Privacy Act of 1974, as amended, was submitted on April 1, 2016, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 12, 2016.
Aaron Siegel,
Alternate OSD Federal Register Liaison Officer, Department of Defense.

DHA 20 DoD

System Name:

Department of Defense Suicide Event Report (DoDSER) System (May 6, 2010, 75 FR 24928)

Changes:

* * * * *

System identifier:

Delete entry and replace with “EDHA 20 DoD.”

* * * * *

Categories of individuals covered by the system:

Delete entry and replace with “Individuals who are Active Duty, Reserve, and National Guard Component personnel serving in the Air Force, Army, Navy, and/or Marines, with reportable suicide or self-directed violence (to include self-harm behaviors, suicide attempts, and suicidal ideation) while on active duty or serving as a member of the Reserves (Reportable Event).”

Categories of records in the system:

Delete entry and replace with “Demographic records: Name, Social Security Number (SSN) and/or DoD Identification (DoD ID) number, date of birth, gender, race/ethnic group, marital status, rank/pay grade, religious preference, military service, military status, job title, service duty specialty code, duty environment/status, Unit Identification Code, permanent duty station, the major command of the permanent duty station, temporary duty station (if applicable), home address, home phone number, and deployment history.

Reportable Event records:

Reportable Event type or description; individual's residence at time of event; circumstances of event; potential precipitating factors and psychological stressors at the time of the event; post-intervention activities, and, if applicable, medical facility, unit or military treatment facility where Reportable Event occurred.

Other records:

Individual's use of military and community helping services, past military experience, medical treatment, psychological, and legal records; social history; medical history; event details, including prior suicidal behaviors; behavioral, developmental, and economic, education/training history; form completer information (name, rank/grade, and contact information); and data sources used to compile records.”

Authority for maintenance of the system:

Delete entry and replace with “10 U.S.C. 136, Under Secretary of Defense for Personnel and Readiness; 10 U.S.C. 3013, Secretary of the Army; 10 U.S.C. 5013, Secretary of the Navy; 10 U.S.C. 8013, Secretary of the Air Force; 10 U.S.C. Chapter 55, Medical and Dental Care; DoD Directive (DoDD) 5124.02, Under Secretary of Defense for Personnel and Readiness (USD(P&R)); DoDD 5136.01, Assistant Secretary of Defense for Health Affairs (ASD(HA)); DoDD 6490.02E, Comprehensive Health Surveillance; DoDD 6490.14, Defense Suicide Prevention Program; Army Regulation 600-63, Army Health Promotion; OPNAV Instruction 1720.4A, Suicide Prevention Program; Air Force Instruction 90-505, Suicide Prevention Program; and E.O. 9397 (SSN), as amended.”

Purpose(s):

Delete entry and replace with “To establish, collect, and maintain integrated DoD enterprise and survey data to be used for direct reporting of Reportable Events involving individuals on Active Duty or serving in the Reserves, supporting ongoing population-based health surveillance activities and public health within DoD, and for analysis. Surveillance activities include the systematic collection, analysis, interpretation, and reporting of outcome-specific data for use in planning and development of best practices, education, public health within DoD, and training on protocols for identifying, responding to, and managing individuals at increased risk of suicide; and implementation, evaluation, and prevention of suicide behaviors and Reportable Events within the DoD.

Records in this system may be made available to the Military Services to provide Service level integrated enterprise and analysis data for Service level direct reporting requirements; to provide the Services with data for planning, implementation, evaluation, and prevention of suicide behaviors; to support Service-level population-based health surveillance activities; to facilitate Service-level behavioral health and medical care and treatment programs; and, to the extent the information provided does not include personally identifiable information, to provide or permit compilation of command level reports and/or trend reporting at a military installation level.

Records in this system may be made available to DoD components that are designated as public health authorities within DoD to support DoD suicide prevention and resilience programs, provide DoD-wide comprehensive strategic approaches for suicide prevention, postvention, and surveillance; assist the Military Services to reduce the impact of suicidal self-directed violence on the readiness of the Military Services; fuse, analyze, and assess DoD-wide surveillance and research activities related to suicidal self-direct violence and other high risk activities to identify risk factors and key outcomes to inform suicide prevention policies and programs; and otherwise fulfill such DoD public health authority's responsibilities.”

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

Statistical summary data with no personally identifiable information may be provided to public health authorities and to federal, state, and local governments not a part of DoD for health surveillance and research.

Records in this system of records that are part of an individual's Service Treatment Record (STR) as defined in DoD Instruction 6040.45, November 16, 2015 (USD(P&R)), and in any successor DoD issuances, and may be provided to the Veterans Administration (VA) in connection with the individual's separation from Service. Such STR-related records in this system may be provided directly to the VA or collected with STR-related records not part of this system and made available to VA.

Except as stipulated in NOTE 1 and NOTE 2 below, the DoD Blanket Routine Uses set forth at the beginning of the Defense Privacy and Civil Liberties Division compilation of systems of records notices may apply to this system. The complete list of DoD Blanket Routine Uses can be found online at: http://dpcld.defense.gov/Privacy/SORNsIndex/BlanketRoutineUses.aspx.

NOTE 1: This system of records may contain individually identifiable health information. The DoD Health Information Privacy Regulation (DoD 6025.18-R) or any successor DoD issuances implementing the Health Insurance Portability and Accountability Act of 1996 (HIPAA) and 45 CFR parts 160 and 164, Health and Human Services, General Administrative Requirements and Security & Privacy, respectively, applies to most such health information. DoD 6025.18-R or a successor issuance may place additional procedural requirements on uses and disclosures of such information beyond those found in the Privacy Act of 1974, as amended, or mentioned in this system of records notice.

NOTE 2: Records of identity, diagnosis, prognosis or treatment information of any patient maintained in connection with the performance of any program or activity relating to substance abuse education, prevention, training, treatment, rehabilitation, or research which is conducted, regulated, or directly or indirectly assisted by any department or agency of the United States, will be treated as confidential and disclosed only for the purposes and under the circumstances expressly authorized in 42 U.S.C. 290d-2.”

* * * * *

Retrievability:

Delete entry and replace with “By individual's name and SSN or DoD ID number.”

Safeguards:

Delete entry and replace with “Physical access to the system is restricted by the use of locks, access controls, and is accessible only to authorized personnel. Each system end user device is protected within a locked storage container, room, or building outside of normal business hours. All visitors or other persons without authorized access to server and/or network facilities are escorted by appropriately screened/cleared personnel at all times. The system is restricted by two-factor authentication including Common Access Card (CAC) and personal identification number. All personnel with authorized access to the system must have appropriate and applicable Information Assurance, Privacy Act, and HIPAA training. All access to records is tracked by electronic audit logs. Audit logs are always on and are archived for historical review and tracking.”

Retention and disposal:

Delete entry and replace with “DoDSER System Master File: Cutoff annually upon separation or retirement of service member. Transfer to inactive storage when 25 years old. Destroy when 75 years old. DoDSER System Annual Reports: Cutoff annually after report is published. Transfer to NARA 3 years after cutoff.”

System manager(s) and address:

Delete entry and replace with “Director, National Center for Telehealth & Technology (T2) Defense Centers of Excellence, 9933 West Hayes Street, Madigan Army Medical Center, Joint Base Lewis-McChord, Tacoma, WA 98431-1100.”

Notification procedures:

Delete entry and replace with “Individuals seeking to determine whether information about themselves is contained in this system of records should address written inquiries to the Chief, Freedom of Information Act (FOIA) Service Center, Defense Health Agency Privacy and Civil Liberties Office, 7700 Arlington Boulevard, Suite 5101, Falls Church, VA 22042-5101.

Written requests should contain the individual's full name, home address, home phone number, and SSN/DoD ID number, the identifier of this system of records notice, and signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Record access procedures:

Delete entry and replace with “Individuals seeking access to records about themselves contained in this system of records should address written inquiries to the Chief, FOIA Service Center, Defense Health Agency Privacy and Civil Liberties Office, 7700 Arlington Boulevard, Suite 5101, Falls Church, VA 22042-5101.

Written requests should contain the individual's full name, home address, home phone number, and SSN/DoD ID number, the identifier of this system of records notice, and signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature).'

If executed within the United States, its territories, possessions, or commonwealths:

`I declare (or certify, verify, or state) under penalty of perjury that the foregoing is true and correct. Executed on (date). (Signature)'.”

Contesting record procedures:

Delete entry and replace with “The Office of the Secretary of Defense (OSD) rules for accessing records, for contesting contents and appealing initial agency determinations are published in OSD Administrative Instruction 81, 32 CFR part 311, or may be obtained from the system manager.”

Record Source Categories

Delete entry and replace with “Medical and behavioral health records; military personnel records; investigative agency records, pre and post deployment screening records, family advocacy records; court martial records; records related to manner of death such as casualty reports, toxicology/lab reports, and pathology/autopsy reports; and suicide notes. Record sources also include interviews with an individual's coworkers/supervisors, responsible investigative agencies, involved professionals such as physicians, behavioral health counselors, chaplains, military police, family service personnel, family members, and, in the case of non-fatal self-directed violence, the individual involved in that Reportable Event.

Records included in this system of records also may be obtained from the Defense Eligibility and Enrollment Reporting System, Armed Forces Health Longitudinal Technology Application, Composite Health Care System, information systems maintained by a Service, and DoD enterprise data systems.”

* * * * *

[FR Doc. 2016-08707 Filed 4-14-16; 8:45 am]

BILLING CODE 5001-06-P